NUCLEAR REGULATORY COMMISSION

[Docket No. 70-7033; NRC-2024-0138]

Global Laser Enrichment, LLC; Classified Matter Protection; Environmental Assessment and Finding of No Significant Impact

AGENCY: Nuclear Regulatory Commission.

ACTION: Notice; issuance.

SUMMARY: The U.S. Nuclear Regulatory Commission (NRC) staff is considering approval of a revision by Global Laser Enrichment, LLC (GLE) to a Standard Practice Procedures Plan (SPPP) for the protection of classified matter. The revision would remove the Fuels Growth Engineering (FGE) facility and confirm the continued use of the classified matter controls implemented at the Test Loop facility. The NRC staff is issuing an environmental assessment (EA) and finding of no significant impact (FONSI) associated with the proposed plans.

DATES: The EA and FONSI referenced in this document are available on October 21, 2024.

ADDRESSES: Please refer to Docket ID NRC-2024-0138 when contacting the NRC about the availability of information regarding this document. You may obtain publicly available information related to this document using any of the following methods:

• Federal Rulemaking Website: Go to https://www.regulations.gov and search for Docket ID NRC-2024-0138. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section. Individuals seeking access to Official Use Only information should contact Matthew Bartlett, using the contact information listed in the For Further Information Contact section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Matthew Bartlett, Office of Nuclear Material Safety and Safeguards, U.S. Nuclear Regulatory Commission, Washington, DC 20555-0001; telephone: 301-415-7154; email: Matthew.Bartlett@nrc.gov.

SUPPLEMENTARY INFORMATION:

I. Introduction

The NRC staff is considering issuance of the approval of GLE's SPPP. The proposed action would allow GLE to remove the FGE facility located in Wilmington, North Carolina from its SPPP while maintaining its other approved existing facilities. Approval of this update would allow GLE to discontinue maintaining its responsibilities under the SPPP at the FGE facility. Therefore, as required by section 51.21 of title 10 of the Code of Federal Regulations (10 CFR), “Criteria for and identification of licensing and regulatory actions requiring environmental assessments,” the NRC staff has prepared an EA that analyzes the environmental effects of the proposed action. Based on the results of the EA and in accordance with 10 CFR 51.31(a), the NRC staff has prepared a FONSI for the proposed action.

The NRC staff received the request from GLE for approval of the SPPP dated July 16, 2024, supplemented by letter dated September 12, 2024. The Federal Register notice of the NRC's decision on the request is anticipated to be published in the near future and will be available on the Federal rulemaking website (https://www.regulations.gov) by searching for Docket ID NRC-2024-0138.

II. Environmental Assessment

Description of the Proposed Action

The proposed action would allow GLE to remove the FGE facility from its SPPP and allow it to cease continuation of required security measures for the FGE facility. As proposed, GLE would continue to possess, use, and store classified matter at its test loop facility. Global Laser Enrichment, LLC operates a test loop for industrialization of the uranium enrichment process that uses separation of isotopes by laser excitation. Although GLE has an NRC-issued facility security clearance for the test loop facility under 10 CFR part 95 for protection of classified information, the facility's operations, safety, and safeguards programs are authorized under the Global Nuclear Fuel—America, LLC, Special Nuclear License No. SNM-1097.

Need for the Proposed Action

The proposed action would allow GLE to cease operations at the FGE facility and discontinue security commitments at this facility under its previously approved SPPP.

Environmental Impacts of the Proposed Action

The NRC staff has assessed the potential environmental impacts from approval of GLE's SPPP revision and concluded that there would be no effluent releases and that the proposed action would have no significant radiological or non-radiological impacts to environmental resources.

The NRC staff assessed the impacts of the proposed action on land use; historical and cultural resources; visual and scenic resources; climatology, meteorology and air quality; geology, minerals, and soils; water resources; ecological resources; socioeconomics; noise; traffic and transportation; public and occupational health and safety; and waste management and concluded that the proposed action would have no significant environmental impacts on these resource areas. The NRC staff determined that there are no cumulative impacts associated with the proposed action.

Environmental Impacts of the Alternatives to the Proposed Action

As an alternative to the proposed action, the staff considered denial of the proposed action (i.e., the “no-action” alternative). Under this alternative, GLE would have to continue to maintain the FGE facility in accordance with its previously approved SPPP.Denial of the proposed action would result in increased costs to GLE and increased consumption of resources while not providing benefits to the public or the environment. The NRC staff concluded that environmental impacts from the no-action alternative would not be significant.

Agencies and Persons Consulted

The Endangered Species Act (ESA) was enacted to prevent further decline of endangered and threatened species and restore those species and their critical habitat. Section 7 of the ESA requires Federal agencies to consult with the U.S. Fish and Wildlife Service or the National Marine Fisheries Service, as appropriate, regarding actions that may affect listed species or designated critical habitats. The NRC staff has determined that the proposed action would have no effect on threatened or endangered species or critical habitat. Therefore, consultation under section 7 of the ESA is not required.

Section 106 of the National Historic Preservation Act (NHPA) requires Federal agencies to consider the effects of their undertakings on historic properties. As stated in the NHPA, historic properties are any prehistoric or historic district, site, building, structure, or object included in or eligible for inclusion in the National Register of Historic Places. The NRC staff has determined that the undertaking is a type of activity that does not have the potential to cause effects on any historic properties that may be present. Therefore, in accordance with 36 CFR 800.3(a)(1), the NRC has no further obligations under section 106 of the NHPA.

III. Finding of No Significant Impact

GLE has requested approval of its SPPP revision. The NRC staff has prepared an EA as part of its review of the proposed action. The proposed action would have no significant radiological or non-radiological impacts to environmental resources. This FONSI incorporates by reference the EA in Section II of this notice. On the basis of this EA, the NRC staff concludes that the proposed action will not have a significant effect on the quality of the human environment. Accordingly, the NRC has determined not to prepare an environmental impact statement.

IV. Availability of Documents

The documents identified in the following table are available to interested persons in ADAMS.

Document description | ADAMS accession No.
Submission for Approval of the Standard Practice and Procedures Plan (SPPP) Revision for Global Laser Enrichment Headquarters, dated July 16, 2024 | ML24199A106
SPPP Update Revision, dated September 12, 2024 | ML24261B962

Dated: October 15, 2024.
For the Nuclear Regulatory Commission.
James Downs,
Acting Chief, Fuel Facilities Licensing Branch, Division of Fuel Management, Office of Nuclear Material Safety and Safeguards.

[FR Doc. 2024-24190 Filed 10-18-24; 8:45 am]

BILLING CODE 7590-01-P